DEPARTMENT OF STATE

[Public Notice 7745]

Determination and Waiver Under the United States Leadership Against HIV/AIDS, Tuberculosis, and Malaria Act of 2003, as Amended, Relating to Assistance to the Autonomous Government of Southern Sudan and the United States Contribution to the Global Fund To Fight AIDS, Tuberculosis and Malaria for Fiscal Year 2010

Pursuant to Section 202(d)(4)(A)(ii) of the United States Leadership Against HIV/AIDS, Tuberculosis and Malaria Act of 2003 (Pub. L. 108-25), as amended by the Tom Lantos and Henry J. Hyde United States Global Leadership Against HIV/AIDS, Tuberculosis, and Malaria Reauthorization Act of 2008 (Pub. L. 110-293), Executive Order 12163, as amended by Executive Order 13361, and Delegation of Authority 293-1, I hereby determine that assistance by the Global Fund to Fight AIDS, Tuberculosis and Malaria to the Autonomous Government of Southern Sudan through the Southern Sudan Country Coordinating Mechanism is justified for humanitarian reasons, and hereby waive, with respect to such assistance provided in the year preceding FY 2010, the application of Section 202(d)(4)(A)(ii) of the Act.

This determination shall be reported to Congress and published in the Federal Register.

Dated: December 13, 2011.
Eric P. Goosby,
Ambassador, U.S. Global AIDS Coordinator.

[FR Doc. 2011-33611 Filed 12-29-11; 8:45 am]

BILLING CODE 4710-10-P